DEPARTMENT OF HOMELAND SECURITY

U.S. Citizenship and Immigration Services

[CIS No. 2504-11; DHS Docket No. USCIS 2011-0006]

RIN 1615-ZB02

Re-registration Procedures for Temporary Protected Status (TPS) Beneficiaries Under the Extended TPS Designation of Haiti and Automatic Extension of Employment Authorization Documentation for Haitian TPS Beneficiaries

AGENCY: U.S. Citizenship and Immigration Services, DHS.

ACTION: Notice.

SUMMARY: This notice announces the opening of the 90-day re-registration period (May 23, 2011 through August 22, 2011) for individuals who were granted Temporary Protected Status (TPS) under the original designation of Haiti for TPS and whose initial TPS applications were approved on or before May 19, 2011. These TPS beneficiaries may now re-register under the 18-month extension of TPS for Haiti that was announced in the Federal Register notice published on May 19, 2011.

New employment authorization documents (EADs) with a January 22, 2013 expiration date will be issued to eligible TPS beneficiaries who timely re-register and apply for EADs. Given the timeframes involved with processing TPS re-registration applications, the Department of Homeland Security recognizes that all re-registrants may not receive new EADs until after their current EADs expire on July 22, 2011. Accordingly, this notice automatically extends the validity of EADs issued under the TPS designation of Haiti for six months, through January 22, 2012. This notice also explains to TPS beneficiaries and their employers which EADs are automatically extended.

DATES: The extension of the TPS designation of Haiti is effective July 23, 2011, and will remain in effect through January 22, 2013. The 90-day re-registration period begins on May 23, 2011, and will be open through August 22, 2011.

FOR FURTHER INFORMATION CONTACT:

• For further information on TPS, including guidance on the application process and additional information on eligibility, please visit the USCIS TPS Web page at http://www.uscis.gov/tps. You can find specific information about this extension of the Haiti TPS designation by selecting “TPS Designated Country: Haiti” from the menu on the left of the TPS Web page. From the Haiti page, you can find additional information by selecting “Temporary Protected Status—Haiti Questions & Answers” from the menu on the right.

• You can contact the TPS Operations Program Manager by sending mail to Family and Status Branch, Service Center Operations Directorate, U.S. Citizenship and Immigration Services, Department of Homeland Security, 20 Massachusetts Avenue, NW., Washington, DC 20529-2060, or by phone at (202) 272-1533 (this is not a toll-free number). Note: The phone number provided here is solely for questions regarding this TPS notice. It is not for individual case status inquiries. Applicants seeking information about the status of their individual cases can check Case Status Online available at the USCIS Web site at http://www.uscis.gov, or call the USCIS National Customer Service Center at 1-800-375-5283 (TTY 1-800-767-1833).

• Further information will also be available at local USCIS offices upon publication of this notice.

SUPPLEMENTARY INFORMATION:

Abbreviations and Terms Used in This Document

INA—Immigration and Nationality Act

DHS—Department of Homeland Security

DOJ—Department of Justice

DOS—Department of State

EAD—Employment Authorization Document

OSC—Department of Justice, Office of Special Counsel for Immigration-Related Unfair Employment Practices

Secretary—Secretary of Homeland Security

TPS—Temporary Protected Status

Background

On January 21, 2010, the Secretary of Homeland Security (Secretary), Janet Napolitano, designated Haiti for Temporary Protected Status (TPS) following the devastating earthquake in Haiti on January 12, 2010. See 75 FR 3476. On May 19, 2011, the Secretary extended TPS for Haiti for an additional 18 months through January 23, 2013, and also re-designated Haiti for TPS through the same date. The extension allows existing, eligible Haitian TPS beneficiaries to retain their TPS, whereas the redesignation allows certain eligible individuals who arrived after the January 12, 2010 earthquake and before January 13, 2011 to obtain TPS. Id. The Federal Register notice published on May 19, 2011, provided registration procedures for individuals applying for TPS under the redesignation of Haiti.

This notice provides re-registration application procedures and other relevant information for individuals who were granted TPS under the original designation. TPS beneficiaries who were granted TPS by May 19, 2011, must now apply for re-registration between May 23, 2011 and August 22, 2011. USCIS will withdraw TPS from any beneficiary who fails to file a timely re-registration application without good cause. INA section 244(c)(3)(C), 8 U.S.C. 1254a(c)(3)(C).

How do I know whether I should apply for re-registration under the extension of TPS or whether I should file an initial TPS application under the redesignation of Haiti?

Table 1 below will help you decide if you should file a re-registration application under the extension of TPS for Haiti or if you should file an initial application under the redesignation of Haiti for TPS. Table 1 will also help you decide if you need to file an Application for Temporary Protected Status, Form I-821, and/or an Application for Employment Authorization, Form I-765.

Table 1—Re-Registration Filing Versus Initial Filing
If . . . | And . . . | Then . . .
You filed a TPS application under the initial designation of Haiti during the registration period January 21, 2010 through January 18, 2011, or filed after January 18, 2011 under the fee waiver cure* | Your application was approved by May 19, 2011 | You need to re-register under the extension by filing Form I-821 and Form I-765 during the re-registration period of May 23, 2011 through August 22, 2011.
| Your application is still pending as of May 19, 2011 | You do not yet have TPS. Your pending Form I-821 will be treated as an initial application under the redesignation, so you do not need to file a new Form I-821. Please see Table 2 to determine if you need to file a new Form I-765.
*The “fee waiver cure” refers to USCIS' policy of permitting certain applicants whose request for a TPS fee waiver was denied to re-file their applications, with the correct fees, during a limited period after January 18, 2011. See 75 FR 39957 (July 13, 2010). USCIS sent the affected applicants an individual notice with the procedures for re-filing | Your application was denied before May 19, 2011, and you believe you may be eligible for TPS under the redesignation | You may be covered under the redesignation. You must file an initial Form I-821 and Form I-765 during the registration period ending November 15, 2011.
You never filed a TPS application under the initial designation of Haiti | You believe you may be eligible for TPS under the redesignation | You may be covered under the redesignation. You must file an initial Form I-821 and Form I-765 during the registration period ending November 15, 2011.

I have a pending TPS application filed during the original Haiti TPS registration period that ran from January 21, 2010 through January 18, 2011. What should I do?

If your TPS application remained pending on May 19, 2011, you do not need to file a new Form I-821. Pending TPS applications are being treated as initial applications under the redesignation. Therefore, if your TPS application is approved, you will be granted TPS through January 22, 2013. If your TPS application was pending on May 19, 2011 and it has not been denied, please refer to Table 2 below to determine whether you should file a new Form I-765, starting May 23, 2011. If your TPS application was denied after May 19, 2011, do not file a new Form I-765; if you do file, the new Form I-765 will be denied because your Form I-821 was denied under the redesignation.

Table 2—EAD Information for TPS Applications Pending on May 19, 2011
If . . . | And . . . | Then . . . | But if . . .
You requested an EAD during the original registration period for Haiti TPS | You received an EAD with Category C19 (temporary TPS-related EAD) or A12 (regular TPS-related EAD) | You must file a new Form I-765 with fee (or fee waiver request) during the re-registration period that opens on May 23, 2011 if you wish to have a new EAD valid through January 22, 2013 | Your Form I-821 is denied before the re-registration period opens on May 23, 2011, DO NOT file a new Form I-765. If you file a new Form I-765 it will be denied because your Form I-821 was denied under the redesignation.
| You did not receive an EAD with Category C19 or A12 | You do not need to file a new Form I-765. If your TPS application is approved, your Form I-765 will be approved through January 22, 2013. |
You did not request an EAD during the original registration period for Haiti TPS | You want an EAD valid through January 22, 2013 | You must file a new Form I-765 with fee (or fee waiver request) during the re-registration period that opens on May 23, 2011 | Your Form I-821 is denied before the re-registration period opens on May 23, 2011, then DO NOT file a new Form I-765. If you file a new Form I-765 it will be denied because your Form I-821 was denied under the redesignation.
| You do not want an EAD valid through January 22, 2013 | You do not need to file a Form I-765 |

I am a TPS beneficiary. What are the procedures for re-registration for TPS under the extension?

The remainder of this Federal Register notice will provide you with the procedures for re-registration under the extension. The following procedures do not apply to individuals who are filing an initial application under the redesignation. Registration procedures for individuals applying for TPS under the redesignation can be found in the Haitian TPS Federal Register notice that was published on May 19, 2011, and on the “TPS Designated Country: Haiti” Web page that can be accessed from the USCIS TPS Web site at http://www.uscis.gov/tps.

Required Application Forms and Application Fees to Re-Register for TPS

To re-register for TPS, an applicant must submit:

1. Application for Temporary Protected Status, Form I-821

• You do not need to pay the application fee for a re-registration; and

2. Application for Employment Authorization, Form I-765

• For re-registration, you must pay the application fee if you want an EAD.

• You do not pay the Form I-765 fee if you are not requesting an EAD.

You must submit both completed application forms together. If you are unable to pay, you may apply for application and/or biometrics fee waivers by submitting a written request for a fee waiver or by completing Request for Fee Waiver, Form I-912, and providing satisfactory supporting documentation. For more information on the application forms and application fees for TPS, please visit the USCIS TPS Web page at http://www.uscis.gov/tps and on left hand column click on Temporary Protected Status for Haiti. Fees for the Form I-821, Form I-765, and biometric services fee are also described in 8 CFR 103.7(b).

Biometric Services Fee

Biometrics (such as fingerprints) are required for all applicants 14 years of age or older. Those applicants must submit a biometric services fee. As previously stated, if you are unable to pay, you may apply for a biometrics fee waiver by completing Form I-912 or submitting your own written request for a fee waiver, and providing satisfactory supporting documentation. For more information on the biometric services fee, please visit the USCIS Web site at http://www.uscis.gov.

Mailing Information

Mail your re-registration application for TPS to the proper address in Table 3:

Table 3—Mailing Addresses
If you live in . . . | For regular mail, send to . . . | For express mail and courier deliveries, send to . . .
The state of Florida | USCIS, P.O. Box 4464, Chicago, IL 60680-4464 | USCIS, Attn: Haiti TPS, 131 South Dearborn, 3rd Floor, Chicago, IL 60603-5517.
The state of New York | USCIS, P.O. Box 660167, Dallas, TX 75266-0167 | USCIS, Attn: Haiti TPS, 2501 S. State Hwy. 121, Business, Suite 400, Lewisville, TX 75067.
All other states | USCIS, P.O. Box 24047, Phoenix, AZ 85074-4047 | USCIS, Attn: Haiti TPS, 1820 E. Skyharbor Circle S, Suite 100, Phoenix, AZ 85034.

E-Filing

E-filing is not available for Haiti TPS, so you cannot e-file your re-registration application. Please mail your application to the mailing address listed in Table 3 above.

Employment Authorization Documents (EADs)

DHS recognizes the possibility that all re-registrants may not receive new EADs until after their current EADs expire on July 22, 2011. Accordingly, DHS is automatically extending the validity of EADs issued under the 2010 TPS designation of Haiti for six months, through January 22, 2012.

May I request an interim EAD at my local USCIS office?

No. USCIS will not issue interim EADs to TPS applicants and re-registrants at local offices.

Am I eligible to receive an automatic six-month EAD extension from July 23, 2011, through January 22, 2012?

You will receive an automatic six-month extension of your EAD if you:

• Are a national of Haiti (or an alien having no nationality who last habitually resided in Haiti) who received an EAD under the designation of Haiti for TPS, and

• Have not had TPS withdrawn or denied.

This automatic extension is limited to EADs Form I-766 with an expiration date of July 22, 2011. These EADs must also bear the notation “A-12” or “C-19” on the face of the card under “Category.”

Upon hire, what documentation may I show to my employer as proof of employment authorization and identity when completing Employment Eligibility Verification, Form I-9?

You can find a list of acceptable document choices on page 5 of the Employment Eligibility Verification form, Form I-9. Employers are required to verify the identity and employment authorization of all new employees by using Form I-9. Within three days of hire, an employee must present his or her employer with proof of identity and employment authorization.

You may present any document from List A (reflecting both your identity and employment authorization), or one document from list B (reflecting identify) together with one document from list C (reflecting employment authorization). An EAD is an acceptable document under “List A.”

If you received a six-month automatic extension of your EAD by virtue of this Federal Register notice, you may choose to present your automatically extended EAD, as described above, to your employer as proof of identity and employment authorization for Form I-9 through January 22, 2012 (see the subsection below titled “How do I and my employer complete Form I-9 using an automatically extended EAD for a new job (i.e., verification)” for further information). To minimize confusion over this extension at the time of hire, you may choose to present a copy of this Federal Register notice regarding the automatic extension of employment authorization through January 22, 2012, to your employer. As an alternative to presenting your automatically extended EAD, you may choose to present any other acceptable document from list A, or list B plus list C.

What documentation may I show my employer if I am already employed but my current TPS-related EAD is set to expire?

You must present any document from list A or any document from list C on Form I-9 to reverify employment authorization. Employers are required to reverify on Form I-9 the employment authorization of current employees upon the expiration of a TPS-related EAD.

If you received a six-month automatic extension of your EAD by virtue of this Federal Register notice, your employer does not need to reverify until after January 22, 2012. You and your employer do need to make corrections to the employment authorization expiration dates in section 1 and section 2 of the Form I-9 (see the subsection below titled “How do I and my employer fill out Form I-9 using an automatically extended EAD for my current job?” for further information). In addition, you may also show this Federal Register notice to your employer to avoid confusion about whether or not your expired TPS-related document is acceptable. After January 22, 2012, when the automatic extension expires, your employer must reverify your employment authorization. You may show any document from list A or list C on Form I-9 to satisfy this reverification requirement (including a new TPS EAD that expires January 22, 2013).

What happens after January 22, 2012 for purposes of employment authorization?

After January 22, 2012, employers may not accept the EADs that were automatically extended by this Federal Register notice. However, USCIS will issue new EADs to TPS re-registrants. These EADs will have an expiration date of January 22, 2013, and can be presented to your employer as proof of employment authorization and identity. The EAD will bear the notation “A-12” or “C-19” on the face of the card under “Category.” Alternatively, you may choose to present any other legally acceptable document or combination of documents listed on the Form I-9 to prove identity and employment authorization.

How do I and my employer complete Form I-9 using an automatically extended EAD for a new job (i.e., verification)?

When using an automatically extended EAD to fill out Form I-9 for a new job prior to January 22, 2012, you and your employer should do the following:

(1) For Section 1, you should:

a. Check “An alien authorized to work;”

b. Write your alien number (A-number) in the first space (your EAD will have your A-number printed on it); and

c. Write the automatic extension date in the second space.

(2) For Section 2, employers should:

a. Record the document title;

b. Record the document number; and

c. Record the automatically extended EAD expiration date.

After January 22, 2012, employers must reverify the employee's employment authorization in section 3 of Form I-9.

How do I and my employer make corrections to Form I-9 using an automatically extended EAD for my current job?

If you are an existing employee and you presented an EAD that was valid when you first started your job, but that EAD has now been automatically extended, you and your employer should correct your previously completed Form I-9 as follows:

(1) For section 1, you should:

a. Draw a line through the expiration date in the second space;

b. Write January 22, 2012, above the previous date;

c. Write “TPS Ext.” in the margin of section 1; and

a. Initial and date the correction in the margin of section 1.

(2) For section 2, employers should:

a. Draw a line through the expiration date written in section 2;

b. Write January 22, 2012, above the previous date;

c. Write “TPS Ext.” in the margin of section 2; and

d. Initial and date the correction in the margin of section 2.

After January 22, 2012, when the automatic extension of EADs expires, employers must reverify the employee's employment authorization in section 3.

If I am an employer enrolled in E-Verify, what do I do when I receive a “Work Authorization Documents Expiring” alert for an automatically extended EAD?

If you are an employer who participates in E-Verify, you will receive a “Work Authorization Documents Expiring” case alert when a TPS beneficiary's EAD is about to expire. Usually, this message is an alert to complete section 3 of Form I-9 to reverify an employee's employment authorization. For existing employees with TPS EADs that have been automatically extended, employers should disregard the E-Verify case alert and follow the instructions above explaining how to correct Form I-9. After January 22, 2012, employment authorization needs to be reverified in section 3. You should never use E-Verify for reverification.

Can my employer require that I produce any other documentation to prove my status, such as proof of my Haitian citizenship?

No. When completing the Form I-9, employers must accept any documentation that appears on the lists of acceptable documentation, and that reasonably appears to be genuine and that relates to you. Employers may not request documentation that does not appear on the Form I-9. Therefore, employers may not request proof of Haitian citizenship when completing Form I-9. If presented with EADs that have been automatically extended pursuant to this Federal Register notice or EADs that are unexpired on their face, employers should accept such EADs as valid “List A” documents so long as the EADs reasonably appear on their face to be genuine and to relate to the employee. See below for important information about your rights if your employer rejects lawful documentation, requires additional documentation, or otherwise discriminates against you because of your citizenship or immigration status, or national origin.

Note to All Employers: Employers are reminded that the laws requiring employment eligibility verification and prohibiting unfair immigration-related employment practices remain in full force. This notice does not supersede or in any way limit applicable employment verification rules and policy guidance, including those rules setting forth reverification requirements. For questions, employers may call the USCIS Customer Assistance Office at 1-800-357-2099. The USCIS Customer Assistance Office accepts calls in English and Spanish only. Employers may also call the Department of Justice (DOJ) Office of Special Counsel for Immigration-Related Unfair Employment Practices (OSC) Employer Hotline at 1-800-255-8155.

Note to Employees: Employees or applicants may call the DOJ OSC Worker Information Hotline at 1-800-255-7688 for information regarding employment discrimination based upon citizenship or immigration status, and national origin, unfair documentary practices related to the Form I-9, and discriminatory practices related to E-Verify. Employers must accept any document or combination of documents acceptable for Form I-9 completion if the documentation reasonably appears to be genuine and relates to the employee. Employers may not require extra or additional documentation beyond what is required for Form I-9 completion. Further, employees who receive an initial mismatch via E-Verify must be given an opportunity to challenge the mismatch, and employers are prohibited from taking adverse action against such employees based on the initial mismatch unless and until E-Verify returns a final nonconfirmation. The Hotline accepts calls in multiple languages. Additional information is available on the OSC Web site at http://www.justice.gov/crt/osc/.

Note Regarding State and Local Government Agencies (Such as Departments of Motor Vehicles): State and local government agencies are permitted to create their own guidelines when granting certain benefits, such as a driver's license or an identification card. Each state may have different laws, requirements, and determinations about what documents you need to provide to prove eligibility for certain benefits. If you are applying for a state or local government benefit, you should provide the state or local government agency with all documents that show you are a TPS beneficiary and/or show you are authorized to work based on TPS. Examples are:

(1) Your expired EAD that has been automatically extended, or your EAD that has a valid expiration date,

(2) A copy of this Federal Register notice if your EAD is automatically extended,

(3) A copy of your I-821 Receipt Notice (I-797) for this re-registration,

(4) A copy of your I-821 Approval Notice (I-797), if you receive one from USCIS,

(5) Any other document from USCIS (such as a mailer) showing that you have a pending or approved I-821 or I-765 re-registration or approved I-821 or I-765 initial registration.

Some benefit-granting agencies use the USCIS Systematic Alien Verification for Entitlements Program (SAVE) to verify the current immigration status of applicants for public benefits. If such an agency has denied your application based solely or in part on a SAVE response following completion of all required SAVE verification steps, the agency must offer you the opportunity to appeal the decision in accordance with the agency's procedures. If the agency has completed all SAVE verification and you do not believe the response is correct, you may make an Info Pass appointment for an in-person interview at a local USCIS office. Detailed information on how to make corrections and how to make an appointment or a written request can be found at the SAVE Web site at http://www.uscis.gov/save, then by choosing “How to Correct Your Records” from the menu on the right.

Janet Napolitano,
Secretary.

[FR Doc. 2011-12576 Filed 5-20-11; 8:45 am]

BILLING CODE 9111-97-P